DEPARTMENT OF ENERGY

Agency Information Collection Extension

AGENCY: Office of Electricity Delivery and Energy Reliability (OE), Department of Energy.

ACTION: Agency Information Collection Activities: Information Collection Extension with Changes; Notice and Request for Comments.

SUMMARY: The Office of Electricity Delivery and Energy Reliability, pursuant to the Paperwork Reduction Act of 1995, intends to extend with changes for three years with the Office of Management and Budget (OMB), Department of Energy Form OE-417, “Emergency Electric Incident and Disturbance Report.” Comments are invited on: (a) Whether the proposed collection of information is necessary for the proper performance of the functions of the agency, including whether the information shall have practical utility; (b) the accuracy of the agency's estimate of the burden of the proposed collection of information, including the validity of the methodology and assumptions used; (c) ways to enhance the quality, utility, and clarity of the information to be collected; and (d) ways to minimize the burden of the collection of information on respondents, including through the use of automated collection techniques or other forms of information technology.

DATES: Comments regarding this proposed information collection must be received on or before November 14, 2014. If you anticipate difficulty in submitting comments within that period, contact the person listed in ADDRESSES as soon as possible.

ADDRESSES: Written comments may be sent to OE-417 Survey Manager, Office of Electricity Delivery and Energy Reliability, OE-40, 1000 Independence Avenue SW., Washington, DC 20585, Reference: OE-417 2014 Renewal. Comments may be sent by fax at 202-586-2623, or by email at OE417renewal@hq.doe.gov.

FOR FURTHER INFORMATION CONTACT: Requests for additional information or copies of the information collection instrument and instructions should be directed to OE-417 Survey Manager, Office of Electricity Delivery and Energy Reliability, OE-40, 1000 Independence Avenue SW., Washington, DC 20585, OE417renewal@hq.doe.gov; the proposed form can be accessed at: http://www.oe.netl.doe.gov/oe417.aspx.

SUPPLEMENTARY INFORMATION: This information collection request contains:

(1) OMB No.: 1901-0288; (2) Information Collection Request Title: Electric Emergency Incident and Disturbance Report; (3) Type of Request: Three-year extension with changes; (4) Purpose: The Federal Energy Administration Act of 1974 (Pub. L. 93-275, 15 U.S.C. 761 et seq.) and the DOE Organization Act (Pub. L. 95-91, 42 U.S.C. 7101 et seq.) requires the DOE to carry out a centralized, comprehensive, and unified energy information program. This program collects, analyzes, and disseminates information on energy resource reserves, production, demand, technology, and related economic and statistical information. This information is used to assess the adequacy of energy resources to meet near and longer-term domestic demands.

The Office of Electricity Delivery and Energy Reliability (OE), as part of its effort to comply with the Paperwork Reduction Act of 1995 (Pub. L. 104-13, 44 U.S.C. Chapter 35), provides the general public and other Federal agencies the opportunities to comment on collections of energy information conducted by OE. Any comments received help the DOE to prepare data requests that maximize the utility of the information collected and to assess the impact of collection requirements on the public. Also, the DOE will later seek the approval of this collection of this information by the Office of Management and Budget (OMB) under section 3507(a) of the Paperwork Reduction Act of 1995.

The DOE collects information on the generation, distribution, and transmission of electric energy. The DOE also collects information on emergency situations in the electric energy supply systems so that appropriate Federal emergency response measures can be implemented in a timely and effective manner.

The purpose of this notice is to seek public comment on the revised Form OE-417 “Electric Emergency Incident and Disturbance Report”, which is used to report electric emergency incidents and disturbances to the DOE. The OE-417 reports enable the DOE to monitor electric emergency incidents and disturbances in the United States (including all 50 states, the District of Columbia, Puerto Rico, U.S. Virgin Islands, and the U.S. Trust Territories) so that the Government may help prevent the physical or virtual disruption of the operation of any critical infrastructure.

Currently, OE uses Form OE-417 to monitor major system incidents on the electric power systems, assess power generating capacity in the event of a significant disruption, and to conduct after-action non-regulatory investigations on significant interruptions of electric power. The information is used to meet DOE national-security responsibilities and requirements as set forth in the U.S. Department of Homeland Security's National Response Framework. The information may also be used in developing legislative recommendations/reports to Congress and coordinating Federal efforts regarding activities such as incidents/disturbances in critical infrastructure protection, the continuity of electric industry operations, and the continuity of operations. The information submitted may also be used by OE to analyze significant power interruptions of electric power from a non-regulatory perspective.

(4a) Proposed Changes to Information Collection: OE is considering making the following changes during this recertification cycle:

(a) OE intends to protect the data submitted on Schedule 2 of the OE-417 under the Confidential Information Protection and Statistical Efficiency Act of 2002 (Pub. L. 107-347, 44 U.S.C. 3501 note)(CIPSEA). The information reported on Schedule 2 will be kept confidential and used for exclusively statistical purposes. This differs from the previous confidentiality provisions that were used to protect information reported in this schedule.

In the past, information was protected to the extent that it satisfied the criteria for exemption under the Freedom of Information Act (FOIA), 5 U.S.C. 552, the DOE regulations, 10 CFR 1004.11, implementing the FOIA, and the Trade Secrets Act, 18 U.S.C. 1905. These laws permitted the information to be used for any non-statistical purposes such as administrative, regulatory, law enforcement, or adjudicatory purposes. Under CIPSEA, the information will not be used for these non-statistical purposes and the information would be used for exclusively statistical purposes.

(b) In applying CIPSEA to protect information reported in Schedule 2, OE will no longer accept submissions of OE-417 forms via email to limit disclosure of confidential information. Respondents will still be able to submit event reports via phone or via fax to the DOE Emergency Operations Center (EOC) which functions 24 hours a day, 7 days a week, 365 days a year.

(c) Adjusting the responses requested in Question 19 and Question 20 to be more generic and the removal of current form Question 21 and Question 22.

The online filing system will now be the default submission method for submitting OE-417 forms during events. Information submitted on Schedule 1 of the OE-417 will still be considered public, with public summaries posted on the OE Web site. The online filing system will be upgraded to transmit public information collected on Schedule 1 of the OE-417 to other organizations, such as the North American Electric Reliability Corporation (NERC), as needed.

(5) Annual Estimated Number of Respondents: 2,924;

(6) Annual Estimated Number of Total Responses: 300;

(7) Annual Estimated Number of Burden Hours: 5061 hours;

(8) Annual Estimated Reporting and Recordkeeping Cost Burden: $0. There are no additional costs to respondents associated with the survey other than the costs associated with the burden hours.

Statutory Authority: Section 13(b) of the Federal Energy Administration Act of 1974, Pub. L. 93-275, codified at 15 U.S.C. 772(b).

Issued in Washington, DC, on September 8, 2014.
Patricia A. Hoffman,
Assistant Secretary, Office of Electricity Delivery and Energy Reliability.

[FR Doc. 2014-21954 Filed 9-12-14; 8:45 am]

BILLING CODE 6450-01-P